DEPARTMENT OF HEALTH AND HUMAN SERVICES

Centers for Disease Control and Prevention

[30Day-41-04]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Cross-sectional Outcome Survey for Evaluation of the CDC Youth Media Campaign—New—National Center for Chronic Disease Prevention and Health Promotion (NCCDPHP), Centers for Disease Control and Prevention (CDC).

In FY 2001, Congress established the Youth Media Campaign at the Centers for Disease Control and Prevention (CDC). Specifically, the House Appropriations Language said: “The Committee believes that, if we are to have a positive impact on the future health of the American population, we must change the behaviors of our children and young adults by reaching them with important health messages”. CDC, working in collaboration with federal partners, coordinated an effort to plan, implement, and evaluate a campaign designed to clearly communicate messages that will help youth develop habits that foster good health over a lifetime. The campaign is based on principles that have been shown to enhance success, including: Designing messages based on research; testing messages with the intended audiences; involving young people in all aspects of campaign planning and implementation; enlisting the involvement and support of parents and other influencers; refining the messages based on research; and measuring the effect of the campaign on the target audiences.

To measure the effect of the campaign on the target audiences, CDC is using a longitudinal design with a telephone survey of tween and parent dyads (Children's Youth Media Survey and Parents' Youth Media Survey, OMB No. 0920-0587) that assesses aspects of the knowledge, attitudes, beliefs, and levels of involvement in positive and physical activities. The baseline survey was conducted prior to the launch of the campaign from April through 2002. Three thousand parent/child dyads (from a nationally representative sample) and 3000 parent/child dyads from the six “high dose” communities were interviewed, for a total of 12,000 respondents. To measure the first year's effects of the campaign, a follow up survey was administered to the baseline respondents April to June 2003. The same respondents will be re-surveyed in April to June 2004.

In addition to the follow-up survey, a new national cross-sectional sample will be included in the outcome evaluation for spring 2004. The cross-sectional sample will serve as a bridge to future years of the outcome survey design, which transfers from a longitudinal to a cross-sectional design. Use of a concurrent cross-sectional survey will address important design problems related to recontact respondent bias that can affect the results of a longitudinal survey. Thus, a telephone survey will be administered in spring 2004 to 2,400 parent/youth dyads in the new national cross-sectional sample using RDD (random digital dialing) methodology. This survey will occur concurrently with the Year-2 Follow-up Survey, and the survey instrument will be the same as the Year-2 Follow-up Survey. In years subsequent to 2004, YMC will continue to conduct cross-sectional surveys of approximately 2400 parent/child dyads. The estimated annualized burden is 1,548 hours.

Respondents | Number of respondents | Number of responses per respondent | Average burden per response
Screener 2004 | 21,052 | 1 | 1/60
YMC Cross-sectional Child 2004 | 2,400 | 1 | 15/60
YMC Cross-sectional Parent 2004 | 2,388 | 1 | 15/60

Dated: April 16, 2004.
Bill J. Atkinson,
Acting Director, Management Analysis and Services Office, Centers for Disease Control and Prevention.

[FR Doc. 04-9232 Filed 4-22-04; 8:45 am]

BILLING CODE 4163-18-P